DEPARTMENT OF ENERGY

Federal Energy Regulatory Commission

[Docket Nos. RP00-468-005 and RP01-25-005]

Texas Eastern Transmission, LP; Notice of Compliance Filing

June 4, 2002.

Take notice that on May 29, 2002, Texas Eastern Transmission, LP (Texas Eastern) tendered for filing as part of its FERC Gas Tariff, Seventh Revised Volume No. 1, the tariff sheets listed in Appendices to the filing.

Texas Eastern states that the purpose of this filing is to comply with the Commission's February 27, 2002 order on Texas Eastern's Order No. 637 compliance filing.

Texas Eastern states that copies of the filing have been mailed to all parties on the official service lists compiled by the Secretary of the Commission in these proceedings.

Any person desiring to be heard or to protest said filing should file a motion to intervene or a protest with the Federal Energy Regulatory Commission, 888 First Street, NE., Washington, DC 20426, in accordance with Sections 385.214 or 385.211 of the Commission's Rules and Regulations. All such motions or protests must be filed on or before June 11, 2002. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-14473 Filed 6-7-02; 8:45 am]

BILLING CODE 6717-01-P